DEPARTMENT OF AGRICULTURE

Forest Service

Information Collection; Extending the Forest Service Message to Diverse Urban Publics

AGENCY: Forest Service, USDA.

ACTION: Notice; request for comment.

SUMMARY: In accordance with the Paperwork Reduction Act of 1995, the Forest Service is seeking comments from all interested individuals and organizations on the new information collection, Extending the Forest Service Message to Diverse Urban Publics.

DATES: Comments must be received in writing on or before October 14, 2008 to be assured of consideration. Comments received after that date will be considered to the extent practicable.

ADDRESSES: Comments concerning this notice should be addressed to Patricia L. Winter, Pacific Southwest Research Station, Forest Service, USDA, 4955 Canyon Crest Drive, Riverside, CA 92507.

Comments also may be submitted via facsimile to (951) 680-1501 or by e-mail to: pwinter@fs.fed.us.

The public may inspect comments received at Building One Reception, 4955 Canyon Crest Drive, Riverside, CA 92507, during normal business hours. Visitors are encouraged to call ahead to (951) 680-1500 to facilitate entry to the building.

FOR FURTHER INFORMATION CONTACT: Patricia L. Winter, Pacific Southwest Research Station, USDA FS, (951) 680-1557. Individuals who use telecommunication devices for the deaf (TDD) may call the Federal Relay Service (FRS) at 1-800-877-8339 twenty-four hours a day, every day of the year, including holidays.

SUPPLEMENTARY INFORMATION: Title: Extending the Forest Service Message to Diverse Urban Publics.

OMB Number: 0596-New.

Type of Request: New.

Abstract: Forest Service and university researchers will contact residents in communities proximate to urban national forests. Through those contacts, they will evaluate outdoor recreation participation, barriers to participation, engagement in other community activities, use of various media types, trust of various media types, and socio-demographics. The results of this information collection will help researchers improve their ability to provide information to natural resource managers on communication and information dissemination to publics.

Residents in metropolitan communities surrounding urban national forests (age 18 or older) will be contacted via telephone and invited to participate in a brief telephone survey. Willing parties will participate in the telephone survey or arrange for future contact based on their availability and convenience.

A Forest Service researcher, Agency analysts/technicians, and a cooperating university researcher will collect and analyze the data. The Forest Service and university researchers are experts in applied social psychology and survey research.

Participants will be asked a series of questions focused on outdoor recreation participation, barriers to participation, engagement in community activities, use of various types of media (television, radio, newspaper, magazines, and Internet), trust in various types of media, and socio-demographics. Responses will be voluntary and anonymous, will not be stored with contact information at any time, and contact information will be purged from researcher files once data collection is complete.

Responses will be used to evaluate selected ethnic/racial groups' use and reliance upon forms of media and other sources of information about outdoor recreation. Findings will help resource managers determine the appropriateness of routes of communication with diverse urban publics regarding natural resource issues and outdoor recreation opportunities. This in turn will help remedy one of the key barriers to use of natural areas for outdoor recreation, a lack of information about such opportunities.

Without the proposed information collection, managers will continue to rely upon the traditional means of information dissemination, which may perpetuate the information gap found among communities of various ethnicities and races regarding outdoor recreation opportunities. The information collected will help the researchers supply information to natural resource managers and other researchers who are focusing their own work on natural resource management values and objectives. Additionally, Forest Service officials will share the data with community-based organizations serving the interests of diverse publics, assisting these organizations in efforts to work with natural resource management agencies and facilitate application of findings.

Estimate of Annual Burden: 10 minutes.

Type of Respondents: Respondents are residents of metropolitan areas adjacent to urban national forests, age 18 or older.

Estimated Annual Number of Respondents: 2,000.

Estimated Annual Number of Responses per Respondent: 1.

Estimated Total Annual Burden on Respondents: 344 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: August 11, 2008.
Ann Bartuska,
Deputy Chief, Research & Development.

[FR Doc. E8-18959 Filed 8-14-08; 8:45 am]

BILLING CODE 3410-11-P